DEPARTMENT OF LABOR

Employment and Training Administration

[TA-W-54,254]

Newstech NY Inc, Deferiet, NY; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance on April 27, 2004, applicable to workers of Newstech NY Inc, Deferiet, New York. The workers are engaged in employment related to the production of upholstery fabrics.

New information provided by the petitioners indicates their intention was to apply for all available Trade Act benefits at the time of the filing. Therefore, the Department has made a decision to investigate further to determine if the workers are eligible to apply for Alternative Trade Adjustment Assistance.

The investigation revealed that a significant number of workers of the subject firm are age 50 or over, workers have skills that are not easily transferable, and conditions in the industry are adverse.

Review of this information shows that all eligibility criteria under Section 246 of the Trade Act of 1974 (26 U.S.C. 2813), as amended have been met for workers at the subject firm. Accordingly, the Department is amending the certification to reflect its finding.

The amended notice applicable to TA-W-54,254 is hereby issued as follows:

”All workers of Newstech NY Inc, Deferiet, New York, who became totally or partially separated from employment on or after February 11, 2003 through April 27, 2006, are eligible to apply for adjustment assistance under Section 223 of the Trade Act of 1974 and are also eligible to apply for Alternative Trade Adjustment Assistance under Section 246 of the Trade Act of 1974.”

Signed at Washington, DC this 12th day of April 2006.
Elliott S. Kushner,
Certifying Officer, Division of Trade Adjustment Assistance.

[FR Doc. E6-6091 Filed 4-21-06; 8:45 am]

BILLING CODE 4510-30-P